DEPARTMENT OF TRANSPORTATION

Office of the Secretary

Application of Island Airlines, LLC for Commuter Air Carrier Authorization

AGENCY: Department of Transportation.

ACTION: Notice of Order to Show Cause (Order 2010-11-4), Docket DOT-OST-2010-0156.

SUMMARY: The Department of Transportation is directing all interested persons to show cause why it should not issue an order finding Island Airlines, LLC, fit, willing, and able, and awarding it Commuter Air Carrier Authorization.

DATES: Persons wishing to file objections should do so no later than November 19, 2010.

ADDRESSES: Objections and answers to objections should be filed in Docket DOT-OST-2010-0156 and addressed to Docket Operations, (M-30, Room W12-140), U.S. Department of Transportation, 1200 New Jersey Avenue, SE., Washington, DC 20590, and should be served upon the parties listed in Attachment A to the order.

FOR FURTHER INFORMATION CONTACT: Catherine O'Toole, Air Carrier Fitness Division (X-56, Room W86-489), U.S. Department of Transportation, 1200 New Jersey Avenue, SE., Washington, DC 20590, (202) 366-9721.

Dated: November 5, 2010.
Susan L. Kurland,
Assistant Secretary for Aviation and International Affairs.

[FR Doc. 2010-28618 Filed 11-12-10; 8:45 am]

BILLING CODE P